DEPARTMENT OF JUSTICE

Notice of Lodging of Consent Decree Pursuant to the Comprehensive Environmental Response, Compensation, and Liability Act

In accordance with Departmental policy, 28 CFR 50.7, notice is hereby given that a Consent Decree in United States v. Applied Science Laboratories, Inc., et al. (E.D. Va.) Civil Action No. 99CV834, was lodged on May 12, 2001, with the United States District Court for the Eastern District of Virginia. The Consent Decree resolves the claims of the United States under section 107 of the Comprehensive Environmental Response, Compensation, and Liability Act, as amended (“CERCLA”), for reimbursement of the United States' past response costs incurred in responding to contamination at the Applied Science Laboratories Superfund Site located in Richmond, Virginia. The Consent Decree obligates the estates of John F. Neves and Mattie R. Neves to sell the real property at 2216 Hull Street, Richmond, Virginia, and pay the first $50,000 of the proceeds from the sale to the United States in reimbursement of the past response costs incurred by EPA; the heirs will keep the next $10,000 and any balance above that will be divided evenly between the United States and the heirs.

The Department of Justice will receive, for a period of thirty (30) days from the date of this publication, comments relating to the proposed Consent Decree. Comments should be addressed to the Assistant Attorney General for the Environmental and Natural Resources Division, Department of Justice, Washington, DC 20530, and should refer to United States v. Applied Science Laboratories, Inc., DOJ Ref. #90-11-3-07015.

The Consent Decree may be examined at the Region III Office of the Environmental Protection Agency, 1650 Arch Street, Philadelphia, Pennsylvania 19103; and by mail from the Consent Decree Library, Department of Justice, PO Box 7611, Washington, DC 20044-7611. In requesting a copy from the Consent Decree Library, please refer to the referenced case and enclose a check in the amount of $5.00, payable to the U.S. Treasury.

Robert Brook,
Assistant Section Chief, Environmental Enforcement Section, Environment and Natural Resources Division.

[FR Doc. 01-12856 Filed 5-21-01; 8:45 am]

BILLING CODE 4410-15-M